ENVIRONMENTAL PROTECTION AGENCY

Draft Air Quality Criteria for Lead

[E-Docket ID No. ORD-2004-0018; FRL-8004-3]

AGENCY: Environmental Protection Agency.

ACTION: Notice of public comment period on a first external review draft.

SUMMARY: The U.S. Environmental Protection Agency (EPA) is announcing a public comment period for the draft document titled, “Air Quality Criteria for Lead; First External Review Draft” (EPA/600/R-05/144). The document was prepared by the National Center for Environmental Assessment within EPA's Office of Research and Development.

EPA is releasing this draft document solely for the purpose of seeking public comment. It does not represent and should not be construed to represent any Agency policy, viewpoint, or determination. EPA will consider any public comments submitted in accordance with this notice when revising the document.

DATES: The public comment period begins on or about December 1, 2005, and ends February 15, 2006. Technical comments should be in writing and must be received by EPA by February 15, 2006. Comments may be submitted electronically via EPA's E-Docket, by mail, by facsimile, or by hand delivery/courier. Please follow the detailed instructions as provided in the SUPPLEMENTARY INFORMATION section of this notice.

ADDRESSES: The draft “Air Quality Criteria for Lead; First External Review Draft” is available primarily via the Internet on the National Center for Environmental Assessment's home page under the Recent Additions and Publications menus at http://www.epa.gov/ncea. A limited number of CD-ROM or paper copies will be available. Contact Ms. Diane Ray by phone (919-541-3637), fax (919-541-1818), or e-mail (ray.diane@epa.gov) to request either of these, and please provide your name, your mailing address, and the document title, “Air Quality Criteria for Lead; First External Review Draft,” (EPA/600/R-05/144) to facilitate processing of your request.

FOR FURTHER INFORMATION CONTACT: For information on the public comment period, contact the Office of Environmental Information Docket; telephone: 202-566-1752; facsimile: 202-566-1753; or e-mail: ORD.Docket@epa.gov.

For technical information, contact Lori White, Ph.D., NCEA; telephone: 919-541-3146; facsimile: 919-541-1818; or e-mail: white.lori@epa.gov.

SUPPLEMENTARY INFORMATION:

I. Information about the Project/Document

Section 108(a) of the Clean Air Act directs the Administrator to identify certain pollutants which “may reasonably be anticipated to endanger public health and welfare” and to issue air quality criteria for them. These air quality criteria are to “accurately reflect the latest scientific knowledge useful in indicating the kind and extent of all identifiable effects on public health or welfare which may be expected from the presence of [a] pollutant in the ambient air * * *.” Under section 109 of the Act, EPA is then to establish National Ambient Air Quality Standards (NAAQS) for each pollutant for which EPA has issued criteria. Section 109(d) of the Act requires subsequent periodic review and, if appropriate, revision of existing air quality criteria to reflect advances in scientific knowledge on the effects of the pollutant on public health and welfare. EPA is also to revise the NAAQS, if appropriate, based on the revised criteria.

Lead is one of six “criteria” pollutants for which EPA has established air quality criteria and NAAQS. On November 9, 2004 (69 FR 64926), EPA formally initiated its current review of the criteria and NAAQS for lead, requesting the submission of recent scientific information on specified topics. One of the next steps in this process was to prepare a project work plan for revision of the existing “Air Quality Criteria for Lead,” EPA-600/8-83/028aF-dF (published in June 1986) and an associated supplement (EPA-600/8-89/049F) published in 1990. Accordingly, a draft of EPA's “Project Work Plan for Revised Air Quality Criteria for Lead” (NCEA-R-1465) was released on January 7, 2005 for public comment (70 FR 1439) and was discussed by the Clean Air Scientific Advisory Committee (CASAC) via a publicly accessible March 28, 2005, teleconference consultation (70 FR 11629). On July 15, 2005 (70 FR 41007), several workshops were announced to discuss, with invited recognized scientific experts, initial draft materials that dealt with various lead-related issues being addressed in the draft AQCD for lead. These workshops were held August 4-5, 16-18, and 17-19, 2005.

After the end of the comment period on the Air Quality Criteria for Lead, First External Review Draft, EPA will present the draft at a public meeting for review by CASAC. Public comments received will be provided to the CASAC review panel. There will be a Federal Register notice to inform the public of the exact date and time of that CASAC meeting.

II. How To Submit Technical Comments to EPA's E-Docket

EPA has established an official public docket for information pertaining to the revision of the Lead AQCD, Docket ID No. ORD-2004-0018. The official public docket is the collection of materials available for public viewing and includes the documents specifically referenced in this action, any public comments received, and other information related to this action, but excludes Confidential Business Information (CBI) or other information whose disclosure is restricted by statute. The official public docket is available for public viewing at the Office of Environmental Information (OEI) Docket in the Headquarters EPA Docket Center, (EPA/DC) EPA West Building, Room B102, 1301 Constitution Ave., NW., Washington, DC. The EPA Docket Center Public Reading Room is open from 8:30 a.m. to 4:30 p.m., Monday through Friday, excluding legal holidays. The telephone number for the Public Reading Room is 202-566-1744, and the telephone number for the OEI Docket is 202-566-1752; facsimile: 202-566-1753; or e-mail: ORD.Docket@epa.gov.

An electronic version of the public docket is available through EPA's electronic public docket and comment system, E-Docket. You may use E-Docket at http://www.epa.gov/edocket/ to submit or view public comments, to access the index of the contents of the official public docket, and to access those documents in the public docket that are available electronically. Once in the system, select “search,” then key in the appropriate docket identification number.

Certain types of information will not be placed in E-Docket. Information claimed as CBI and other information for which disclosure is restricted by statute will not be available for public viewing in the official public docket or in E-Docket. EPA's policy is that copyrighted material will not be placed in E-Docket but will be referenced there and will be available as printed material in the official public docket.

If you intend to submit comments to EPA, please note that it is EPA's policy to make public comments available for public viewing as received and without change at the EPA Docket Center or in E-Docket. This policy applies to information submitted electronically or in paper form, except where restricted by copyright, CBI, or statute. When EPA identifies a comment containing copyrighted material, EPA will provide a reference to that material in the version of the comment that is placed in EPA's electronic public docket. The entire printed comment, including the copyrighted material, will be available in the official public docket.

Public comments submitted on computer disks that are mailed or delivered to the docket will be transferred to E-Docket. Public comments that are mailed or delivered to the Docket will be scanned and placed in E-Docket. Where practical, physical objects will be photographed, and the photograph will be placed in E-Docket with a brief description written by the docket staff.

You may submit comments electronically, by mail, by facsimile, or by hand delivery/courier. To ensure proper receipt by EPA, include the appropriate docket identification number with your submission. Please ensure that your comments are submitted within the specified comment period. Comments received after the closing date will be marked “late,” and may only be considered if time permits.

If you submit comments electronically, EPA recommends that you include your name, mailing address, and an e-mail address or other contact information in the body of your comment. Also include this contact information on the outside of any submitted disk or CD-ROM, and in any cover letter accompanying the disk or CD-ROM. This ensures that you can be identified as the person submitting the comment and allows EPA to contact you in case the Agency cannot read your submission due to technical difficulties or needs further information on the substance of your comment. EPA will not edit your comment, and any identifying or contact information provided in the body of a comment will be included as part of the comment that is placed in the official public docket and made available in E-Docket. If EPA cannot read your comment due to technical difficulties and cannot contact you for clarification, it may delay or preclude consideration of your comment.

Electronic submission of comments to E-Docket is EPA's preferred method for receiving comments. Go directly to EPA Dockets at http://www.epa.gov/edocket, and follow the online instructions for submitting comments. To access EPA's electronic public docket from the EPA Internet Home Page, select “Information Sources,” “Dockets,” and “EPA Dockets.” Once in the system, select “search,” and then key in Docket ID No. ORD-2004-0018. The system is an “anonymous access” system, which means EPA will not know your identity, e-mail address, or other contact information unless you provide it in the body of your comment.

Comments may be sent by electronic mail (e-mail) to ORD.Docket@epa.gov, Attention: Docket ID No. ORD-2004-0018. In contrast to EPA's electronic public docket, EPA's e-mail system is not an “anonymous access” system. If you send an e-mail comment directly to the docket without going through EPA's E-Docket, EPA's e-mail system automatically captures your e-mail address, and it becomes part of the information in the official public docket and in E-Docket.

You may submit comments on a disk or CD-ROM that you mail to the OEI Docket mailing address. Files will be accepted in WordPerfect, Word, or PDF format. Avoid the use of special characters and any form of encryption.

If you provide comments in writing, please submit one unbound original with pages numbered consecutively, and three copies of the comments. For attachments, provide an index, number pages consecutively with the comments, and submit an unbound original and three copies.

Dated: November 23, 2005.
Peter W. Preuss,
Director, National Center for Environmental Assessment.

[FR Doc. E5-6760 Filed 12-1-05; 8:45 am]

BILLING CODE 6560-50-P